ENVIRONMENTAL PROTECTION AGENCY

[EPA-HQ-OECA-2012-0499; FRL-9997-96-OMS]

Information Collection Request Submitted to OMB for Review and Approval; Comment Request; NSPS for Industrial/Commercial/Institutional Steam Generating Units (Renewal)

AGENCY: Environmental Protection Agency (EPA).

ACTION: Notice.

SUMMARY: The Environmental Protection Agency (EPA) has submitted an information collection request (ICR), NSPS for Industrial/Commercial/Institutional Steam Generating Units (EPA ICR Number 1088.15, OMB Control Number 2060-0072), to the Office of Management and Budget (OMB), for review and approval in accordance with the Paperwork Reduction Act. This is a proposed extension of the ICR, which is currently approved through November 30, 2019. Public comments were previously requested via the Federal Register on May 6, 2019 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before September 16, 2019.

ADDRESSES: Submit your comments, referencing Docket ID Number EPA-HQ-OECA-2012-0499, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Industrial/Commercial/Institutional Steam Generating Units (40 CFR part 60, subpart Db) were proposed on June 19, 1986, promulgated on December 16, 1987, and most-recently amended on February 27, 2014. The amendment of 2014 promulgated technical and editorial corrections for source-testing of emission operations. The revisions did not result in any changes to either the reporting or recordkeeping requirements. These regulations apply to industrial/commercial/institutional steam generating units (boilers) that commenced either construction, or modification, or reconstruction after June 19, 1984, and have a heat input capacity from fuels combusted in the unit of greater than 29 megawatts (MW) (100 million British thermal units per hour (MMBtu/hr)). This information is being collected to assure compliance with 40 CFR part 60, subpart Db.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of industrial/commercial/institutional steam generating units (boilers) that commenced construction, modification, or reconstruction after June 19, 1984, and have a heat input capacity from fuels combusted in the unit of greater than 29 megawatts (MW) (100 million British thermal units per hour (MMBtu/hr)).

Respondent's obligation to respond: Mandatory (40 CFR part 60, subpart Db).

Estimated number of respondents: 1,957 (total).

Frequency of response: Quarterly and semiannually.

Total estimated burden: 1,790,000 hours (per year). Burden is defined at 5 CFR 1320.3(b).

Total estimated cost: $243,000,000 (per year), which includes $36,200,000 in annualized capital/startup and/or operation & maintenance costs.

Changes in the estimates: There is an adjustment increase in the burden in this ICR compared to the previous ICR. The increase is based on an increase in the number of sources subject to the NSPS due to continued growth in the industry.

Courtney Kerwin,
Director, Regulatory Support Division.

[FR Doc. 2019-17525 Filed 8-14-19; 8:45 am]

BILLING CODE 6560-50-P